DEPARTMENT OF TRANSPORTATION

Office of the Secretary

[Docket No. DOT-OST-2018-0151]

Privacy Act of 1974; Department of Transportation, Office of the Secretary of Transportation; DOT/ALL-27; Department of Transportation Training Programs

AGENCY: Office of the Departmental Chief Information Officer, Office of the Secretary of Transportation, DOT.

ACTION: Correction to notice of a new System of Records.

SUMMARY: In accordance with the Privacy Act of 1974, the Department of Transportation's Office of the Secretary of Transportation (DOT/OST) issued a notice on November 27, 2018 to establish a DOT-wide System of Records titled, “DOT/ALL-27, Training Programs.” This notice also retired two existing DOT systems of records notices, however, there was a typographical error in the reference to one of the two systems identified for retirement. The notice should have identified DOT/RITA-O16, TSI Online Catalog and Learning Management System”, not DOT/RITA-12, TSI Online Catalog and Learning Management System.

FOR FURTHER INFORMATION CONTACT: For questions, please contact: Claire W. Barrett, Departmental Chief Privacy Officer, Privacy Office, Department of Transportation, Washington, DC 20590; privacy@dot.gov; or (202) 527-3284.

Issued in Washington, DC on December 11, 2018.
Claire W. Barrett,
Departmental Chief Privacy Officer.

[FR Doc. 2018-27106 Filed 12-13-18; 8:45 am]

BILLING CODE 4910-9X-P